FEDERAL COMMUNICATIONS COMMISSION

47 CFR Part 73

[DA 04-2462; MB Docket No.03-98; RM-10688]

Radio Broadcasting Services; Sellersburg and Seymour, IN

AGENCY: Federal Communications Commission.

ACTION: Final rule.

SUMMARY: This document substitutes Channel 230A from 229B at Seymour, Indiana and reallots Channel 230A from Seymour to Sellersburg, Indiana, and modifies the license for Station WQKC to specify operation Channel 230A at Sellersburg, Indiana, in response to a petition filed by of INDY LICO, Inc., licensee of Station WGRL(FM), Noblesville, Indiana, and S.C.I. Broadcasting, Inc., licensee of Station WQKC(FM). See 68 FR 35617, June 16, 2003. Channel 23A can be reallotted to Sellersburg in compliance with the Commission's minimum distance separation requirements at a site11.5 kilometers (7.1 miles) south of the community. The coordinates for Channel 230A at Sellerseburg are 38-17-41 NL and 85-45-07 WL. Oppositions filed by Evangel Schools, Inc., and Eric Heyob are denied.

DATES: Effective September 23, 2004.

FOR FURTHER INFORMATION CONTACT: Victoria M. McCauley, Media Bureau, (202) 418-2180.

SUPPLEMENTARY INFORMATION: This is a summary of the Commission's Report and Order, MB Docket No. 03-98, adopted August 4, 2004, and released August 9, 2004. The full text of this Commission decision is available for inspection and copying during regular business hours in the FCC's Reference Information Center, Portals II, 445 12th Street, SW., Room CY-A257, Washington, DC, 20554. The complete text of this decision may also be purchased from the Commission's duplicating contractor, Qualex International, Portals II, 445 12th Street, SW., Room CY-B402, Washington, DC, 20554, telephone 202-863-2893. The Commission will send a copy of this Report and Order in a report to be sent to Congress and the General Accounting Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Indiana, is amended by removing Seymour, Channel 229B and by adding Sellersburg, Channel 230A.

Federal Communications Commission.
John A. Karousos,
Assistant Chief, Audio Division, Media Bureau.

[FR Doc. 04-19024 Filed 8-18-04; 8:45 am]

BILLING CODE 6712-01-P